DEPARTMENT OF JUSTICE

Notice of Lodging of Consent Decree Pursuant to the Comprehensive Environmental Response, Compensation, and Liability Act

Pursuant to Section 122(d)(2) of the Comprehensive Environmental Response, Compensation, and Liability Act (“CERCLA”), 42 U.S.C. 9622(d)(2), and 28 CFR 50.7, notice is hereby given that a proposed consent decree embodying a settlement in United States v. ITT Industries, Inc., et al., No. CV 99-00552 MRP (ANx), was lodged on May 17, 2000, with the United States District Court for the Central District of California, Western Division.

In an amended complaint filed concurrently with the lodging of the consent decree, the United States and the State of California seek injunctive relief for performance of response actions and reimbursement of response costs incurred by the United States Environmental Protection Agency (“EPA”) and by the California Department of Toxic Substances Control (“DTSC”), pursuant to Sections 106 and 107 of CERCLA, 42 U.S.C. 9606, 9607, in response to releases of hazardous substances at the Glendale North and South Operable Units (“OUs”) of the San Fernando Valley Basin Superfund Site, in Southern California.

Under the proposed consent decree, the settling defendants have agreed to fund and perform future response actions at the Glendale OUs. Future work includes construction, operation and maintenance of a groundwater extraction and treatment system. After four months of operation and maintenance by the settling defendants, the City of Glendale, a party to the consent decree although not a defendant in the complaint, shall assume responsibility for future operation and maintenance of the extraction and treatment system, as well as of certain other facilities.

In addition, the consent decree requires the settling defendants to pay $13,226,949 in EPA past costs, together with $38,053 in Department of Justice costs, to the United States and $83,550 in DTSC past costs to the State of California.

The Department of Justice will receive, for a period of thirty (30) days from the date of this publication, comments relating to the proposed consent decree. Comments should be addressed to the Assistant Attorney General for the Environment and Natural Resources Division, U.S. Department of Justice, Box 7611, Ben Franklin Station, Washington, DC 20044-7611, and should refer to United States v. ITT Industries, Inc., et al., DOJ Ref. #90-11-2-442A. Commenters may request a public hearing in the affected area, pursuant to Section 7003(d) of RCRA, 42 U.S.C 6973(d).

The proposed consent decree may be examined at the EPA Region 9 Superfund Records Center, 75 Hawthorne Street, Fourth Floor, San Francisco, California 94105, and at the Office of the United States Attorney for the Central District of California, Federal Building, Room 7516, 300 North Los Angeles Street, Los Angeles, California 90012. A copy of the proposed consent decree may also be obtained by mail from the Department of Justice Consent Decree Library, Box 7611, Ben Franklin Station, Washington, DC 20044-7611. In requesting a copy, please refer to the referenced case and enclose a check in the amount of $110.50 (25 cents per page reproduction costs), payable to the Consent Decree Library. A copy of the decree, exclusive of the defendants' signature pages and the attachments, may be obtained for $26.25.

Joel Gross,
Chief, Environmental Enforcement Section, Environment and Natural Resources Division.

[FR Doc. 00-13907 Filed 6-2-00; 8:45 am]

BILLING CODE 4410-15-M